DEPARTMENT OF LABOR

Office of the Secretary of Labor

Notice of Final Determination Revising the List of Products Requiring Federal Contractor Certification as to Forced or Indentured Child Labor Pursuant to Executive Order 13126

AGENCY: Bureau of International Labor Affairs, Labor.

ACTION: Notice of Final Determination.

SUMMARY: This final determination revises the list required by Executive Order No. 13126 (“Prohibition of Acquisition of Products Produced by Forced or Indentured Child Labor”), in accordance with the “Procedural Guidelines for the Maintenance of the List of Products Requiring Federal Contractor Certification as to Forced or Indentured Child Labor.” This notice adds a product, hand-woven textiles from Ethiopia, to the list that the Departments of Labor, State and Homeland Security believe might have been mined, produced, or manufactured by forced or indentured child labor. This notice also removes charcoal from Brazil from the list, as the Departments of Labor, State and Homeland Security have a reasonable basis to believe that the use of forced or indentured child labor has been significantly reduced. Under a final rule of the Federal Acquisition Regulatory Councils, published January 18, 2001, which also implements Executive Order No. 13126, federal contractors who supply products on this list are required to certify, among other things, that they have made a good faith effort to determine whether forced or indentured child labor was used to produce the item.

DATES: This document is effective immediately upon publication of this notice.

SUPPLEMENTARY INFORMATION:

I. Background

Executive Order No. 13126 (EO 13126), which was published in the Federal Register on June 16, 1999 (64 FR 32383), declared that it was “the policy of the United States Government * * * that the executive agencies shall take appropriate actions to enforce the laws prohibiting the manufacture or importation of good, wares, articles, and merchandise mined, produced or manufactured wholly or in part by forced or indentured child labor.” Pursuant to EO 13126, and following public notice and comment, the Department of Labor published in the January 18, 2001 Federal Register, a list of products (the “EO List”), identified by their country of origin, that the Department, in consultation and cooperation with the Departments of State and Treasury [relevant responsibilities now within the Department of Homeland Security], had a reasonable basis to believe might have been mined, produced or manufactured with forced or indentured child labor (66 FR 5353).

Pursuant to Section 3 of EO 13126, the Federal Acquisition Regulatory Councils published a final rule in the Federal Register on January 18, 2001, providing, amongst other requirements, that federal contractors who supply products that appear on the EO List published by the Department of Labor must certify to the contracting officer that the contractor, or, in the case of an incorporated contractor, a responsible official of the contractor, has made a good faith effort to determine whether forced or indentured child labor was used to mine, produce or manufacture any product furnished under the contract and that, on the basis of those efforts, the contractor is unaware of any such use of child labor. See 48 CFR Subpart 22.15.

The Department also published on January 18, 2001, “Procedural Guidelines for Maintenance of the List of Products Requiring Federal Contractor Certification as to Forced or Indentured Child Labor” (Procedural Guidelines), which provide for maintaining, reviewing, and, as appropriate, revising the EO List (66 FR 5351). The Procedural Guidelines provide that the List may be revised through consideration of submissions by individuals and on the Department's own initiative. In either event, when proposing to revise the List, the Department of Labor must publish in the Federal Register a notice of initial determination, which includes any proposed alteration to the List. The Department will consider all public comments prior to the publication of a final determination of a revised list, which is made in consultation and cooperation with the Departments of State and Homeland Security.

On September 11, 2009, the Department of Labor published an initial determination in the Federal Register proposing to revise the List to include 29 products from 21 countries. The Notice requested public comments for a period of 90 days. Public comments were received and reviewed by all relevant agencies, and a final determination was issued on July 20, 2010 that included all products proposed in the initial determination except for carpets from India. (75 FR 42164).

On December 16, 2010, in consultation and cooperation with the Departments of State and Homeland Security, the Department of Labor published an initial determination proposing to revise the EO List in the Federal Register (75 FR 78755). The notice explained how the initial determination was made and invited public comment through February 15, 2011. The initial determination and Procedural Guidelines can be accessed on the Internet at http://www.dol.gov/ILAB/regs/eo13126/main.htm or can be obtained from: Office of Child Labor, Forced Labor, and Human Trafficking (OCFT), Bureau of International Labor Affairs, Room S-5317, U.S. Department of Labor, 200 Constitution Avenue, NW., Washington, DC 20210; telephone: (202) 693-4843; fax (202) 693-4830.

II. Summary of Significant Comments

Three public comments were received, from the Apparel Export Promotion Council of India (AEPC), the Child Labor Coalition (CLC), and the International Labor Rights Forum (ILRF). All comments are available for public viewing at http://www.regulations.gov (reference Docket ID No. DOL-2010-0005). In developing the revised list of products, these public comments have been carefully reviewed and considered. The AEPC submission discussed the garment and zari industries in India, while the CLC submission discussed a range of topics including the carpet industry in India, açaí berry production in Brazil, and child labor in the United States. However, none of the topics discussed in the AEPC or CLC submissions were germane to the initial determination, so only the comments from ILRF are discussed below. The comments of the AEPC and the CLC will be retained and considered in future reviews.

ILRF's comments related to the methodology and process used to remove products from the EO List, in particular, Brazilian charcoal. ILRF agreed with our initial determination that charcoal from Brazil be removed from the EO List. More broadly, ILRF agreed with our baseline benchmarks for removal of a product, including demonstrated quantitative and qualitative evidence of “virtual elimination” of forced child labor in an industry. ILRF emphasized the important role that third-party, independent monitoring and verification had played in significantly reducing forced child labor in the Brazilian charcoal industry, as well as government enforcement and public education. The Department appreciates this specific feedback on our methodology and process.

III. Revised List of Products

It has been determined appropriate to publish a revised list of products that reflects the changes proposed in the initial determination. No new information was provided through public comments to negate the proposed revisions in the initial determination. The basis for each of these revisions to the EO List is set forth in the Department of Labor's December 16, 2010, notice in the Federal Register (75 FR 78755).

Accordingly, based on recent, credible, and appropriately corroborated information from various sources, the Department of Labor, the Department of State, and the Department of Homeland Security have concluded that there is a reasonable basis to believe that the following product, identified by its country of origin, might have been mined, produced, or manufactured by forced or indentured child labor:

PRODUCT

Hand-Woven Textiles

COUNTRY

Ethiopia

In addition, the Department of Labor, the Department of State, and the Department of Homeland Security have concluded that there is a reasonable basis to believe that forced or indentured child labor has been significantly reduced in the production of the following product, identified by its country of origin:

PRODUCT

Charcoal

COUNTRY

Brazil

The bibliographies providing the basis for the three agencies' decisions on each product are available on the Internet at http://www.dol.gov/ILAB/regs/eo13126/main.htm.

Signed at Washington, DC, this 24th day of May 2011.
Sandra Polaski,
Deputy Undersecretary, Bureau of International Labor Affairs.

[FR Doc. 2011-13342 Filed 5-27-11; 8:45 am]

BILLING CODE 4510-28-P